DEPARTMENT OF AGRICULTURE

Food Safety and Inspection Service

[Docket No. 01-023N]

Codex Alimentarius Commission: Thirty-Fourth Session of the Codex Committee on Food Hygiene

AGENCY: Office of the Under Secretary for Food Safety, USDA.

ACTION: Notice of public meetings and request for comments.

SUMMARY: The Office of the Under Secretary for Food Safety, U.S. Department of Agriculture (USDA), and the Food and Drug Administration (FDA), Department of Health and Human Services, are sponsoring two public meetings, on August 30 and September 25, 2001. The purpose of the meetings is to provide information and receive public comments on agenda items that will be discussed at the Thirty-fourth Session of the Codex Committee on Food Hygiene (CCFH), which will be held in Bangkok, Thailand, on October 8-13, 2001. The Under Secretary for Food Safety and FDA recognize the importance of providing interested parties the opportunity to obtain background information on the Thirty-fourth Session of the CCFH and to address items on the agenda.

DATES: The public meetings are scheduled for August 30 and September 25, 2001, from 1 p.m. to 5 p.m.

ADDRESSES: The public meetings will be held in Conference Room 1409, Federal Office Building 8, 200 C Street, SW., Washington, DC 20204. Reference documents will be available for review in the FSIS Docket Room, U.S. Department of Agriculture, Food Safety and Inspection Service, Room 102, Cotton Annex, 300 12th Street, SW., Washington, DC 20250-3700. The documents will also be accessible via the World Wide Web at the following address: http://www.fao.org/waicent/faoinfo/economic/esn/codex. Submit one original and two copies of written comments to the FSIS Docket Room and reference Docket #01-023N. All comments submitted in response to this notice will be available for public inspection in the FSIS Docket Room between 8:30 a.m. and 4:30 p.m., Monday through Friday.

FOR FURTHER INFORMATION CONTACT: F. Edward Scarbrough, Ph.D., U.S. Manager for Codex, U.S. Codex Office, Food Safety and Inspection Service, Room 4861, South Building, 1400 Independence Avenue SW., Washington, DC 20250-3700, Telephone (202) 205-7760; Fax (202) 720-3157. Persons requiring a sign language interpreter or other special accommodations should notify Dr. Scarbrough at the above number.

SUPPLEMENTARY INFORMATION

Background

The Codex Alimentarius Commission (Codex) was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The CCFH was established to draft basic provisions on food hygiene for all foods. The Government of the United States hosts this Committee and will chair the Committee meeting.

Issues To Be Discussed at the Public Meeting

The following issues and referenced documents will be discussed during the public meetings:

1. Matters referred by the Codex Alimentarius Commission and other Codex committees, CX/FH 01/2.

2. Endorsement of hygiene provisions in the Codex standards and codes of practice, ALINORM 01/18 Appendix V.

3. Code of practice for fish and fish products.

4. Draft code of hygienic practice for the primary production of fresh fruits and vegetables, ALINORM 01/13A, Appendix V.

5. Report of the ad hoc expert consultation of risk assessment of microbiological hazards in food and related matters, CX/FH 01/5.

6. Proposed draft guidelines for the control of Listeria monocytogenes in foods, CX/FH 01/6.

7. Proposed draft principles and guidelines for the conduct of microbiological risk management, CX/FH 01/7.

8. Proposed draft code of hygienic practice for milk and milk products, CX/FH 01/8.

9. Proposed draft guidelines for hygienic reuse of processing water in food plants, CX/FH 01/9.

10. Proposed draft guidelines on the application of HACCP in small and/or less developed business, CX/FH 01/10.

11. Proposed draft revision of the code of hygienic practice for egg products, CX/FH 01/11.

12. Discussion paper—risk profile on the antimicrobial resistant bacteria in food, CX/FH 01/12.

13. Discussion paper on the proposed draft guidelines for the validation of food hygiene control measures, CX/FH 01/13.

14. Discussion paper on the proposed draft guidelines for evaluating objectionable matter in food, CX/FH 01/14.

Public Meeting

At the August 30th public meeting, the issues will be described, discussed, and attendees will have the opportunity to pose questions and offer comments. At the September 25th public meeting, draft United States positions on the issues will be described, discussed, and attendees will have the opportunity to pose questions and offer comments. Comments may be sent to the FSIS Docket Room (see ADDRESSES). Please state that your comments relate to CCFH activities and specify which issues your comments address.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on July 31, 2001.
F. Edward Scarbrough,
U.S. Manager for Codex Alimentarius.

[FR Doc. 01-19595 Filed 8-3-01; 8:45 am]

BILLING CODE 3410-DM-P